DEPARTMENT OF HOUSING AND URBAN DEVELOPMENT

[Docket No. FR-6098-N-01]

Notice of Final Determination for the MOWA Band of Choctaw Indian Tribe's Request for Expansion of Their Formula Area

AGENCY: Office of the Assistant Secretary for Public and Indian Housing, HUD.

ACTION: Notice.

SUMMARY: This notice advises the public that the MOWA Band of Choctaw Indian Tribe has requested an expansion of their Formula Area that will overlap with the Poarch Creek Tribe's Formula Area. HUD made a preliminary determination that the MOWA Band of Choctaw Indian Tribe met the requirements for expanding its Formula Area to include the balance of Mobile County, Alabama. Poarch Creek, an affected tribe was notified and had opportunity to comment. HUD received no comments from the affected tribe. Consistent with HUD regulations, HUD is announcing its final determination to grant the request of MOWA Band of Choctaw Indian Tribe.

DATES: Applicability Date: April 24, 2018.

FOR FURTHER INFORMATION CONTACT: Frederick Griefer, Director, Office of Grants Management, Office of Native American Programs, Department of Housing and Urban Development, 451 Seventh Street SW, Room 9166, Washington, DC 20410, telephone 202-402-5186 (this is not a toll-free number). Hearing or speech-impaired individuals may access this number via TTY by calling the toll-free Federal Information Relay Service at 1-800-877-8339.

SUPPLEMENTARY INFORMATION: The Indian Housing Block Grant (IHBG) program is authorized by section 302 of the Native American Housing Assistance and Self Determination Act of 1996 (NAHASDA). Under the Indian Housing Block Grant (IHBG) program, codified in 24 CFR part 1000.302, Indian tribes can request an expansion of their Formula Area that overlaps with another tribe's Formula Area. In accordance with 24 CFR 1000.326(a)(3), which became effective on December 22, 2016, State tribes are eligible to request and receive Formula Area that were already assigned to Federally recognized tribes. According to § 1000.326(a)(3), when a State recognized tribe's Formula Area overlaps with the Formula Area of a Federally recognized Indian tribe, the Federally recognized Indian tribe receives the allocation for the Formula Area up to its population cap, and the State recognized tribe receives the balance of the overlapping area (if any) up to its population cap.

Pursuant to 24 CFR 1000.302, if a tribe asks HUD for an expansion of their Formula Area, after HUD makes its preliminary determination, HUD must notify all potentially affected Indian tribes of the basis for its preliminary determination by certified mail and provide the Indian tribes with opportunity to comment for a period of not less than 90 days. After consideration of the comments, § 1000.302 requires HUD to publish the notice of final determination in the Federal Register.

On March 14, 2017, the MOWA Band of Choctaw Indian Tribe, a State recognized tribe, requested that their Formula Area be expanded to include the balance of Mobile County in the State of Alabama starting in Fiscal Year (FY) 2017. The portion of the county which is not reservation and trust lands is referred to as the balance of county. The Formula Area expansion requested by the MOWA Band of Choctaw Indian Tribe results in an overlapping Formula Area with the Poarch Creek Tribe, a Federally recognized tribe. In accordance with § 1000.326(a)(3), HUD made a preliminary determination on December 4, 2017, that the MOWA Band of Choctaw Indian Tribe meets the requirements for expanding its Formula Area to include the balance of Mobile County, Alabama. In accordance with § 1000.302, HUD notified the Poarch Creek Tribe about the basis for its preliminary determination by certified mail and provided opportunity to comment for a period of not less than 90 days. The required notification was sent to the Poarch Creek Tribe on December 4, 2017. As of March 5, 2018, no comments were received. Therefore, HUD made a final determination to add the balance of Mobile County, Alabama to the MOWA Band of Choctaw Indian Tribe's Formula Area starting in FY 2017. The Tribe submitted their request for FY 2017 determination, therefore this final determination will apply to the Tribe's request retroactively.

Dated: April 16, 2018.
Dominique Blom,
General Deputy Assistant Secretary for Public and Indian Housing.

[FR-6098-N-01]

[FR Doc. 2018-08546 Filed 4-23-18; 8:45 am]

BILLING CODE 4210-67-P